DEPARTMENT OF HEALTH AND HUMAN SERVICES

Centers for Disease Control and Prevention

[30DAY-45-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: Sentinel Surveillance for Chronic Liver Disease (0920-0427)—Revision—National Center for Infectious Diseases (NCID), Centers for Disease Control and Prevention (CDC). A questionnaire has been designed to collect information for the Sentinel Surveillance for Chronic Liver Disease project. The purpose of this project is to determine the incidence and period prevalence of physician-diagnosed chronic liver disease in a defined geographic area, the contribution of chronic viral hepatitis to the burden of disease, the influence of etiologic agents(s) and other factors on mortality, and to monitor the incidence of and mortality from chronic lever disease over time. The information gathered will be analyzed in conjunction with data collected from other sources to address these questions. The results of the project will assist the Hepatitis Branch, Division of Viral and Rickettsial Diseases, National Center for Infectious Diseases in accomplishing the part of its mission related to preparing recommendations for the prevention and control of all types of viral hepatitis and their sequella. In order to focus on prevention efforts and resource allocation, a representative view of the overall burden of chronic liver disease, its natural history, and the relative contribution of viral hepatitis is needed. The estimated annualized burden is 500 hours.

Respondents | No. of respondent | No. of responses per respondent | Avereage burden per responses in hours
All consenting adults with physician-diagnosed chronic liver disease living in catchment areas | 500 | 1 | 1

Date: August 16, 2001.
Nancy E. Cheal,
Acting Associate Director for Policy, Planning, and Evaluation, Centers for Disease Control and Prevention.

[FR Doc. 01-21270 Filed 8-22-01; 8:45 am]

BILLING CODE 4163-18-P